DEPARTMENT OF ENERGY

Federal Energy Regulatory Commission

[Docket No. EL16-13-000]

Emera Maine; Notice of Institution of Section 206 Proceeding and Refund Effective Date

On December 7, 2015, the Commission issued an order in Docket No. EL16-13-000, pursuant to section 206 of the Federal Power Act (FPA), 16 U.S.C. 824e (2012), instituting an investigation into the justness and reasonableness of Emera Maine's proposed revisions to its Open Access Transmission Tariff for Maine Public District. Emera Maine, 153 FERC ¶ 61,283 (2015).

The refund effective date in Docket No. EL16-13-000, established pursuant to section 206(b) of the FPA, will be the date of publication of this notice in the Federal Register.

Dated: December 8, 2015.
Nathaniel J. Davis, Sr.,
Deputy Secretary.

[FR Doc. 2015-31393 Filed 12-11-15; 8:45 am]

BILLING CODE 6717-01-P